DEPARTMENT OF THE INTERIOR

National Park Service

[N6585; NPS-WASO-NAGPRA-NPS0041294; PPWOCRADN0-PCU00RP14.R50000]

Notice of Inventory Completion: The University of Tennessee, Department of Anthropology, Knoxville, TN

AGENCY: National Park Service, Interior.

ACTION: Notice.

SUMMARY: In accordance with the Native American Graves Protection and Repatriation Act (NAGPRA), the University of Tennessee, Department of Anthropology, Knoxville, TN (UTK) has completed an inventory of human remains and associated funerary objects and has determined that there is a cultural affiliation between the human remains and associated funerary objects and Indian Tribes or Native Hawaiian organizations in this notice.

DATES: Repatriation of the human remains and associated funerary objects in this notice may occur on or after December 18, 2025.

ADDRESSES: Send written requests for repatriation of the human remains and associated funerary objects in this notice to Dr. Ellen Lofaro, University of Tennessee, Office of Repatriation, 5723 Middlebrook Pike, Knoxville, TN 37996, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

The two lots of associated funerary objects identified from the Roden/Craig Plant site (34MC215) are one lot of faunal material and one lot of objects placed with or near human remains. These objects were removed by Gregory Perino of the Museum of the Red River in Idabel, OK, likely between 1976 and 1978 when Perino removed a minimum of 47 individuals from the site. The human remains are not present at UTK. The Roden/Craig Plant site dates to the Late Caddo McCurtain Phase (c. 1300-1650 CE). Records indicate that the faunal remains were sent to Paul Parmalee of UTK by Perino some time after these excavations and that the faunal remains and objects were associated with human remains when originally removed from the site.

Human remains representing, at least, 21 individuals have been identified. The eight lots of associated funerary objects are lithics; faunal material; ceramics; and objects placed with or near human remains. These individuals and objects were removed from the Bud Wright site (34MC216) in McCurtain County, OK, in 1979 and 1985 by Gregory Perino of the Museum of the Red River in Idabel, OK. This site is located in southeastern OK, and ceramic assemblages suggest it has a Fourche Maline/Early Caddo Phase (c. 800-1200 CE) component and a possible Late Caddo McCurtain Phase (c. 1300-1650 CE) component. Based on records, it is likely that Perino sent these individuals to William Bass of UTK for examination along with others from nearby sites in Red River County, TX.

Human remains representing, at least, 32 individuals have been identified. The 15 lots of associated funerary objects are ceramics; lithics; faunal material; beads; and objects placed with or near human remains. These individuals and objects were removed from the Dan Holdeman site (41RR11) in Red River County, TX, in 1983 by Gregory Perino. This site is located along the Red River in northeastern Texas, and based on the presence of Mounds and archaeological assessments, the site has Formative Caddo, Middle Caddo, and Late Caddo McCurtain Phase components (c. 800-1650 CE). Based on records describing the transport of individuals from nearby sites, it is likely that Perino sent these individuals to Bass at UTK for examination.

Human remains representing, at least, 90 individuals have been identified. The 48 lots of associated funerary objects are beads; botanical material; ceramics; faunal material; shell; and objects placed with or near human remains. These individuals and objects were removed from the Kaufman-Williams site, (41RR16) in Red River County, TX, between 1977 and 1979 by Gregory Perino and associates. It is a Mound site located along the Red River in northeastern Texas and has Early/Late Caddo McCurtain Phase and Historic components (c. 1100-1800 CE). Correspondence between Perino and Bass indicates that Perino sent these individuals to Bass at UTK for examination between 1977 and 1979.

Human remains representing, at least, one individual have been identified. No associated funerary objects are present. This individual was removed from the Bentsen Clark site (41RR41 in Red River County, TX, at an unknown date by an unknown individual. Salvage excavations were undertaken at the site in 1969 by the McCurtain County Anthropological Society (MCAS) but records do not identify whether this individual was removed by MCAS. Ceramic assemblages suggest the site dates to the Early and Middle Caddo Phases (c. 1000-1400 CE). This individual was sent from New Mexico to the Museum of the Red River at an unknown date. Based on a pattern of past practice, it is likely that Perino transferred them to Bass at UTK for examination with other individuals from nearby sites.

Human remains representing, at least, 39 individuals have been identified. The 13 lots of associated funerary objects are ceramics; lithics; and objects placed with or near human remains. These individuals and objects were removed from the Rowland Clark site (41RR77) in Red River County, TX, by Gregory Perino between April and May, 1981. The site likely dates to the Late Caddo McCurtain Phase (c. 1300-1650 CE) and may also have a later (post-1650 CE) component. Based on records describing the transport of individuals from nearby sites from Perino to UTK, it is likely that Perino sent these individuals to Bass at UTK for examination.

To the best of our knowledge, no potentially hazardous substances were used to treat any of the remains or objects listed in this notice.

Cultural Affiliation

Based on the information available and the results of consultation, cultural affiliation is clearly identified by the information available about the human remains and associated funerary objects described in this notice.

Determinations

UTK has determined that:

• The human remains described in this notice represent the physical remains of 183 individuals of Native American ancestry.

• The 86 lots of objects described in this notice are reasonably believed to have been placed intentionally with or near individual human remains at the time of death or later as part of the death rite or ceremony.

• There is a connection between the human remains and associated funerary objects described in this notice and the Caddo Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 18, 2025. If competing requests for repatriation are received, UTK must determine the most appropriate requestor prior to repatriation. Requests for joint repatriation of the human remains and associated funerary objects are considered a single request and not competing requests. UTK is responsible for sending a copy of this notice to the Indian Tribes and Native Hawaiian organizations identified in this notice and any other consulting parties.

Authority: Native American Graves Protection and Repatriation Act, 25 U.S.C. 3003, and the implementing regulations, 43 CFR 10.10.

Dated: September 30, 2025.
Melanie O'Brien,
Manager, National NAGPRA Program.

[FR Doc. 2025-20103 Filed 11-17-25; 8:45 am]

BILLING CODE 4312-52-P